DEPARTMENT OF COMMERCE

National Oceanic and Atmospheric Administration

[I.D. 012800I]

Pacific Fishery Management Council; Public Meeting

AGENCY: National Marine Fisheries Service (NMFS), National Oceanic and Atmospheric Administration (NOAA), Commerce.

ACTION: Notice of public meeting.

SUMMARY: The Pacific Fishery Management Council (Council) will hold a meeting to discuss stock assessment plans for 2000. The meeting will be open to the public.

DATES: The meeting will be held February 28-February 29, 2000. The meeting will begin on Monday, February 28, 2000 at 10:00 a.m., and reconvene February 29, 2000 at 8:00 a.m.; the meeting will run as late as necessary each day to complete scheduled business.

ADDRESSES: The meeting will be held at the Pacific States Marine Fisheries Commission, 45 SE 82nd Drive, Suite 100, Gladstone, OR 97027-2522.

Council address: Pacific Fishery Management Council, 2130 SW Fifth Avenue, Suite 224, Portland, OR 97201.

FOR FURTHER INFORMATION CONTACT: Dan Waldeck, Fishery Management Analyst; telephone: (503) 326-6352.

SUPPLEMENTARY INFORMATION: The purpose of the meeting is to plan the stock assessment process for groundfish species in 2000. The meeting will consider revisions to the terms of reference used for 1999 stock assessments, revise the goals and objectives for the annual stock assessment cycle, develop a calendar for 2000 stock assessment activities, confirm the list of species to be assessed in 2000, designate the resources and personnel for the assessments and the reviews, and discuss ways of improving coordination of the process. The meeting will also consider developing draft terms of reference for the process to rebuild overfished stocks.

Although non-emergency issues not contained in this notice may be discussed at the meeting, those issues will not be the subject of formal action during this meeting. Actions will be restricted to those issues specifically identified in this notice and any issues arising after publication of this notice that require emergency action under section 305(c) of the Magnuson-Stevens Fishery Conservation and Management Act, provided the public has been notified of the intent to take final action to address the emergency.

Special Accommodations

The meeting is physically accessible to people with disabilities. Requests for sign language interpretation or other auxiliary aids should be directed to Mr. John Rhoton at (503) 326-6352 at least 5 days prior to the meeting date.

Dated: January 28, 2000.
Bruce C. Morehead,
Acting Director, Office of Sustainable Fisheries, National Marine Fisheries Service.

[FR Doc. 00-2574 Filed 2-3-00; 8:45 am]

BILLING CODE 3510-22-F